DEPARTMENT OF ENERGY

Federal Energy Regulatory Commission

[Docket No. PL04-3-000]

Natural Gas Interchangeability; Notice Seeking Comments

March 2, 2005.

On February 28, 2005, the Natural Gas Council filed two reports in the captioned docket: White Paper on Liquid Hydrocarbon Drop Out in Natural Gas Infrastructure and White Paper on Natural Gas Interchangeability and Non-Combustion End Use: Representatives of the Natural Gas Council summarized the reports at the Commission's March 2 open meeting. The Commission has posted these reports on its Web site at http://www.ferc.gov and is soliciting public comment on them. In addition, the reports are accessible on-line at http://www.ferc.gov, using the “eLibrary” link and are available for review in the Commission's Public Reference Room in Washington, DC. The Commission will use the reports and comments received to inform its decisions as to how it should address issues of natural gas quality and natural gas interchangeability.

Comments should be filed no later than thirty days from the date of this Notice, as indicated by the comment date below. The Commission encourages electronic submission of comments in lieu of paper using the “eFiling” link at http://www.ferc.gov. Persons unable to file electronically should submit an original and 14 copies of their comments to the Federal Energy Regulatory Commission, 888 First Street, NE., Washington, DC 20426.

Note that also there is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: April 1, 2005.

Linda L. Mitry,
Deputy Secretary.

[FR Doc. E5-961 Filed 3-7-05; 8:45 am]

BILLING CODE 6717-01-P